DEPARTMENT OF TRANSPORTATION

Federal Railroad Administration

Notification of Informational Filing To Test a Processor-Based Signal and Train Control System, and a Request for Waiver of Compliance

In accordance with Title 49 Code of Federal Regulations (CFR) Part 211, notice is hereby given that the Federal Railroad Administration (FRA) has received a request for a waiver of compliance with certain requirements of Federal railroad safety regulations. The individual petition is described below, including the party seeking relief, the regulatory provisions involved, the nature of the relief being requested, and the petitioner's arguments in favor of relief.

CSX Transportation, Inc.

[Docket Number FRA-2006-25057]

In association with continued development and implementation testing of the CSX Transportation, Inc. (CSXT) Communications Based Train Control (CBTM) System, CSXT of Jacksonville, Florida, has petitioned for a waiver of compliance from certain FRA regulatory safety requirements. CBTM is a non-vital safety-critical overlay designed to supplement the existing method of operation to protect against the consequences of human error.

CSXT is requesting a petition of regulatory relief from the following Federal regulations: 49 CFR 216.13 (Special Notice of Repairs—Locomotive), 49 CFR 217.9 (Program of Operational Tests and Inspections—Recordkeeping), 49 CFR 217.11 (Program of Instruction on Operating Rules—Recordkeeping, Electronic Recordkeeping), 49 CFR part 218 subpart D (Prohibition Against Tampering with Safety Devices), 49 CFR 229.7 (Prohibited Acts), 49 CFR 229.135 (Event Recorders), 49 CFR 233.9 (Reports), 49 CFR 235.5 (Changes Requiring Filing of Application), 49 CFR 240.127 (Criteria for Examining Skill Performance), and 49 CFR 240.129 (Criteria for Monitoring Operational Performance of Certified Engineers). CSXT is requesting regulatory relief for testing related to the CBTM on the CSXT Blue Ridge, Duke, Spartanburg, and McCormick Subdivisions, which consist of approximately 137 miles of Traffic Control System territory and 130 miles of Direct Traffic Control territory. The regulatory relief requested was previously granted; however, this relief was withdrawn by FRA in a letter dated April 8, 2005 (see docket FRA-2002-12507). The regulatory relief requested in CSX's current petition is only for CBTM-related equipment and testing, and only through the conclusion of CBTM testing. Compliance with the rules for which relief is requested will not apply to non-CBTM-related equipment and operations. Details of the exact relief requested and CSXT's supporting rationale are detailed in FRA-2006-25057-4.

For informational purposes only, FRA is also providing notice that it has received an informational filing to test CBTM submitted pursuant to 49 CFR 236.913(j). FRA will accept comments only on those items requiring a waiver from regulatory requirements. All communications concerning the petition from regulatory relief under 49 CFR part 211 should identify the appropriate docket number (FRA-2006-25057) and must be submitted by one of the following methods:

• Web site: http://dms.dot.gov. Follow the instructions for submitting comments on the DOT electronic site;

• Fax: 202-493-2251;

• Mail: Docket Management Facility, U.S. Department of Transportation, 400 Seventh Street, SW., Nassif Building, Room PL-401, Washington, DC 20590-0001; or

• Hand Delivery: Room PL-401 on the plaza level of the Nassif Building, 400 Seventh Street, SW., Washington, DC, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment on behalf of an association, business, labor union, etc.). You may review the DOT's complete Privacy Act Statement in the Federal Register published on April 11, 2000, (Volume 65, Number 70; Pages 19477-78). The Statement may also be found at http://dms.dot.gov.

Issued in Washington, DC on December 6, 2006.
Grady C. Cothen, Jr.,
Deputy Associate Administrator for Safety Standards and Program Development.

[FR Doc. E6-21016 Filed 12-11-06; 8:45 am]

BILLING CODE 4910-06-P